SECURITIES AND EXCHANGE COMMISSION

[File No. 500-1]

In the Matter of Aurora Medical Technology, Inc.; Order of Suspension of Trading

July 14, 2006.

It appears to the Securities and Exchange Commission that there is a lack of current and accurate information concerning the securities of Aurora Medical Technology, Inc. (“AROR”) because of possible manipulative conduct occurring in the market for the company's stock.

The Commission is of the opinion that the public interest and the protection of investors require a suspension of trading in the securities of the above-listed company.

Therefore, it is ordered, pursuant to section 12(k) of the Securities Exchange Act of 1934, that trading in the above-listed company is suspended for the period from 9:30 a.m. EDT, on July 14, 2006 through 11:59 p.m. EDT, on July 27, 2006.

By the Commission.
Nancy M. Morris,
Secretary.

[FR Doc. 06-6304 Filed 7-14-06; 11:02 am]

BILLING CODE 8010-01-P